DEPARTMENT OF AGRICULTURE

National Institute of Food and Agriculture

Notice of Intent To Extend Without Change a Currently Approved Information Collection

AGENCY: National Institute of Food and Agriculture, Department of Agriculture.

ACTION: Approval of notice and request for comments.

SUMMARY: In accordance with the Paperwork Reduction Act of 1995 and Office of Management and Budget (OMB) regulations, this notice announces the National Institute of Food and Agriculture's (NIFA) intention to extend without change, a currently approved information collection entitled, “Research, Education, and Extension project online reporting tool (REEport).”

DATES: Written comments on this notice must be received by October 19, 2020 to be assured of consideration. Comments received after that date will be considered to the extent practicable.

ADDRESSES: Written comments may be submitted by any of the following methods: Email: robert.martin3@usda.gov.

Mail: Office of Information Technology (OIT), NIFA, USDA, STOP 2216, 1400 Independence Avenue SW, Washington, DC 20250-2216. You may also submit comments, through the Federal eRulemaking Portal: www.regulations.gov. Follow the instructions for submitting comments.

FOR FURTHER INFORMATION CONTACT: Robert Martin, Records Officer; email: robert.martin3@usda.gov; phone: 202-445-5388.

SUPPLEMENTARY INFORMATION:

Title: Reporting Requirements for Research, Education, and Extension project online reporting tool (REEport).

OMB Number: 0524-0048.

Expiration Date of Current Approval: August 31, 2020.

Type of Request: Renewal of a currently approved information collection.

Abstract: The United States Department of Agriculture (USDA), NIFA administers several competitive, peer-reviewed research, education, and extension programs, under which awards of a high-priority are made. These programs are authorized pursuant to the authorities contained in the National Agricultural Research, Extension, and Teaching Policy Act of 1977, as amended (7 U.S.C. 3101 et seq.); the Smith-Lever Act (7 U.S.C. 341 et seq.); and other legislative authorities. NIFA also administers several formula funded research programs. The programs are authorized pursuant to the authorities contained in the McIntire-Stennis Cooperative Forestry Research Act of October 10, 1962 (16 U.S.C. 582a-1-582a-7); the Hatch Act of 1887, as amended (7 U.S.C. 4361a-361i); Section 1445 of Public Law 95-113, the Food and Agriculture Act of 1977, as amended (7 U.S.C. 3222); and Section 1433 of Subtitle E (Sections 1429-1439), Title XIV of Public Law 95-113, as amended (7 U.S.C. 3191-3201).

Estimate of the Burden: The total reporting and record keeping burden does not change.

Estimated Number of Responses: 8,700.

Estimated Burden per Response: 1.0 hour.

Estimated Total Annual Burden on Respondents: 870 hours.

Frequency of Responses: Annually.

Comments: Comments are invited on: (a) Whether the proposed collection of information is necessary for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments should be sent to the address stated in the preamble.

All responses to this notice will be summarized and included in the request for OMB approval. All comments will become a matter of public record.

following address: https://nifa.usda.gov/program/uie-ag.

Done at Washington, DC.
Stephen L. Censky,
Deputy Secretary, U.S. Department of Agriculture.

[FR Doc. 2020-17604 Filed 8-17-20; 8:45 am]

BILLING CODE 3410-22-P